DEPARTMENT OF ENERGY

Federal Energy Regulatory Commission

[Docket No. PF01-1-000]

Dominion Transmission, Inc.; Notice of Site Visit

November 2, 2001.

On November 12 through 16, 2001, the staff of the Office of Energy Projects will conduct a pre-filing site visit of Dominion Transmission, Inc.'s (Dominion) Greenbrier Pipeline Project in Virginia and West Virginia. The project area will be inspected by automobile and on foot, as appropriate. The staff also plans to attend two Open Houses being held by Dominion on November 13 and 14 at the following locations:

November 13, 2001: Henry County Administration Building, 3300 Kings Mountain Road, Martinsville, Virginia, 540-634-4600, option 3.

November 14, 2001: Cross Roads Ruritan Club; No address or phone available. From Rocky Mount, Virginia take Route 40 west for about 15 miles and turn right onto Route 788. The entrance to Ruritan Club is on the right about 200 feet from the turn. Follow hard road about 0.5 mile to the facility.

These Open Houses will start at 6 p.m.

All interested parties may attend the site visit. Those planning to attend must provide their own transportation. For additional information about the site visit, contact the Commission's Office of External Affairs at (202) 208-1088.

For information concerning the Open Houses contact Sean R. Sleigh, Certificates Manager for Dominion at (800) 624-3101 or (304) 627-3462.

Linwood A. Watson, Jr.,
Acting Secretary.

[FR Doc. 01-28031 Filed 11-7-01; 8:45 am]

BILLING CODE 6717-01-P